U.S. DEPARTMENT OF COMMERCE

Foreign-Trade Zones Board

Order No. 1538

Expansion of Foreign-Trade Zone 221, Mesa, Arizona

Pursuant to its authority under the Foreign-Trade Zones Act of June 18, 1934, as amended (19 U.S.C. 81a-81u), the Foreign-Trade Zones Board (the Board) adopts the following Order:

Whereas, the City of Mesa, Arizona, grantee of Foreign-Trade Zone 221, submitted an application to the Board for authority to reorganize and expand its existing site at the Williams Gateway Airport in Mesa, Arizona, within and adjacent to the Williams Gateway Airport Customs and Border Protection user-fee airport (FTZ Docket 34-2007, filed 8/8/07);

Whereas, notice inviting public comment was given in the Federal Register (72 FR 46602, 8/21/07) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 221 is approved, subject to the FTZ Act and the Board's regulations, including Section 400.28.

Signed at Washington, DC, this 7th day of January 2008.

David M. Spooner,
Assistant Secretary of Commerce for Import Administration, Alternate Chairman, Foreign-Trade Zones Board
Attest:
Andrew McGilvray,
Executive Secretary.

[FR Doc. E8-555 Filed 1-14-08; 8:45 am]

BILLING CODE 3510-DS-S